ENVIRONMENTAL PROTECTION AGENCY

[FRL-6922-2]

Agency Information Collection Activities; EPA ICR No. 0155.07; Submission to OMB; Comment Request

AGENCY: Environmental Protection Agency (EPA).

ACTION: Notice.

SUMMARY: In compliance with the Paperwork Reduction Act (PRA) (44 U.S.C. 3501 et seq.), this document announces that the following Information Collection Request (ICR) has been forwarded to the Office of Management and Budget (OMB) for review and approval: Certification of Pesticide Applicators; Renewal of Pesticide Information Collection Activities and Request for Comments [EPA No. 0155.07; OMB No. 2070-0029]. The ICR, which is abstracted below, describes the nature of the information collection activity and its expected burden and costs. The Federal Register document, required under 5 CFR 1320.8(d), soliciting comments on this collection of information was published on June 28, 2000 (65 FR 39894). EPA received one comment, which has been addressed in this ICR.

DATES: Additional comments may be submitted on or before January 25, 2001.

FOR FURTHER INFORMATION CONTACT: Sandy Farmer at EPA by phone on 202-260-2740 or by e-mail: farmer.sandy@epa.gov. You may also access the ICR at http://www.epa.gov/icr/icr.htm. Refer to EPA ICR No 0155.07 and/or OMB Control No. 2070-0029.

ADDRESSES: Send your comments, referencing the proper ICR numbers to: Ms. Sandy Farmer, U.S. Environmental Protection Agency, Office of Environmental Information, Collection Strategies Division (2822), 1200 Pennsylvania Ave, NW., Washington, DC 20460; and send a copy of your comments to: Office of Information and Regulatory Affairs, Office of Management and Budget (OMB), Attention: Desk Officer for EPA, 725 17th Street, NW., Washington, DC 20503.

SUPPLEMENTARY INFORMATION: Title: Certification of Pesticide Applicators (EPA ICR No.0155.07, OMB No. 2070-0029). This is a request for extension of an existing approved collection that is currently scheduled to expire on December 31, 2000. Under 5 CFR 1320.10(e)(2), the Agency may continue to conduct or sponsor the collection of information while the submission is pending at OMB.

Abstract: The Federal Insecticide, Fungicide and Rodenticide Act (FIFRA) allows EPA to classify a pesticide as “restricted use” if the pesticide meets certain toxicity or risk criteria. Restricted use pesticides, because of their potential to harm persons or the environment, may be applied only by a certified applicator or someone under the direct supervision of a certified applicator. In order to become a certified applicator, a person must meet certain standards of competency. Once approved by EPA, participating States can implement a certified applicator program. In non-participating States, EPA administers certification programs.

An agency may not conduct or sponsor, and a person is not required to respond to a collection of information that is subject to approval under the PRA, unless it displays a currently valid OMB control number. The OMB control numbers for EPA's information collections appear on the collection instruments or instructions, in the Federal Register notices for related rulemakings and ICR notices, and, if the collection is contained in a regulation, in a table of OMB approval numbers in 40 CFR Part 9.

Burden Statement: The total annual public burden is estimated to be 1,285,865 hours; or 3.1 hours per commercial applicator/firm response, 5 hours per response for pesticide dealers in Colorado, 0.17 hours per response for certifying applicators in Colorado, and 78.4 hours per response for each participating State and Tribal government and Federal agency. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information. The following is a summary of the estimates taken from the ICR:

Respondents/affected entities: 57 States, Federal Agencies and Indian Tribes; 266 pesticide dealers, 48 applicators in Colorado and 412,922 commercial pesticide applicators and firms.

Estimated total number of potential respondents: 413,293.

Frequency of response: Once annually.

Estimated total/average number of responses for each respondent: One.

Estimated total annual burden hours: 1,285,865 hours.

Estimated total annual non-labor burden costs: $0.

List of Subjects

EPA, Pesticides, certified pesticide applicators, information collection.

Dated: December 18, 2000.
Oscar Morales,
Director, Collection Strategies Division.

[FR Doc. 00-32846 Filed 12-22-00; 8:45 am]

BILLING CODE 6560-50-P